FEDERAL ELECTION COMMISSION

Sunshine Act Notices

DATE AND TIME: Thursday, November 5, 2009, at 10 a.m.

PLACE: 999 E Street, NW., Washington, DC (Ninth Floor).

STATUS: This meeting will be open to the public.

To Be Discussed Items: Correction and Approval of Minutes.

Draft Advisory Opinion 2009-25: Jennifer Brunner Committee, by Patrick M. Quinn, Esq.

Draft Advisory Opinion 2009-26: Illinois State Representative Elizabeth Coulson, Coulson for Congress, and Coulson Campaign Committee, by William J. McGinley and Kathryn Biter Chen, Esqs.

Final Rules on Campaign Travel.

Placing First General Counsel's Reports on the Public Record.

Continuation of Web site and Internet Communications Improvement Initiative.

Management and Administrative Matters.

Individuals who plan to attend and require special assistance, such as sign language interpretation or other reasonable accommodations, should contact Mary Dove, Commission Secretary, at (202) 694-1040, at least 72 hours prior to the hearing date.

PERSON TO CONTACT FOR INFORMATION: Judith Ingram, Press Officer, Telephone: (202) 694-1220,

Mary W. Dove,
Secretary of the Commission.

[FR Doc. E9-26904 Filed 11-9-09; 8:45 am]

BILLING CODE 6715-01-M